DEPARTMENT OF COMMERCE

International Trade Administration

[C-570-955]

Certain Magnesia Carbon Bricks From the People's Republic of China: Final Results and Final Rescission, in Part, of Countervailing Duty Administrative Review; 2012

AGENCY: Enforcement and Compliance, International Trade Administration, Department of Commerce.

SUMMARY: The Department of Commerce (the Department) conducted an administrative review of the countervailing duty order on certain magnesia carbon bricks (MCBs) from the People's Republic of China (PRC) covering the period of review (POR) January 1, 2012, through December 31, 2012. On June 2, 2014, the Department published the Preliminary Results for this administrative review and invited interested parties to comment on it.¹ Based on the analysis of the comments received, the Department has not made any changes to its Preliminary Results. The final subsidy rates are listed in the “Final Results of Review” section below.

¹ See Certain Magnesia Carbon Bricks From the People's Republic of China: Preliminary Results of Countervailing Duty Administrative Review; 2012, 79 FR 32915 (June 9, 2014) (Preliminary Results).

DATED: Effective Date: October 16, 2014.

FOR FURTHER INFORMATION CONTACT: Gene Calvert, AD/CVD Operations, Office VII, Enforcement and Compliance, International Trade Administration, U.S. Department of Commerce, 14th Street and Constitution Avenue NW., Washington, DC 20230; telephone (202) 482-3586.

Background

On June 2, 2014, the Department published the Preliminary Results. The Department preliminarily determined to apply adverse facts available (AFA) to the sole mandatory respondent, Fengchi Imp. and Exp. Co., Ltd. of Haicheng City and Fengchi Refractories Co., of Haicheng City (collectively, Fengchi), and the Government of the PRC (GOC), because these parties failed to cooperate to the best of their ability in this review.² The Department also stated its preliminary intent to rescind the review for the following companies that timely certified that they had no shipments of subject merchandise to the United States during the POR: RHI AG and its affiliates Liaoning RHI Jinding Magnesia Co.; RHI Refractories (Dalian) Co. Ltd.; RHI Refractories Liaoning Co., Ltd.; RHI Trading Shanghai Branch; and RHI Trading (Dalian) Co., Ltd. (collectively, the RHI companies).³ The Department invited interested parties to comment on the Preliminary Results.

² Id., and accompanying Preliminary Decision Memorandum (PDM) at 3-4.

³ Id., 79 FR at 32915.

On July 9, 2014, the Department received a timely filed joint case brief from Resco Products, Inc. (Petitioner) and a domestic producer of MCBs, Magnesita Refractories Company (Magnesita).⁴ No other party filed an administrative case or rebuttal brief.

⁴ See the July 9, 2014, submission from Petitioner and Magnesita, “Petitioner's Case Brief” (Case Brief).

Scope of the Order

The scope of the order includes certain MCBs. Certain MCBs that are the subject of this order are currently classifiable under the following subheadings of the Harmonized Tariff Schedule of the United States (HTSUS): 6902.10.1000, 6902.10.5000, 66815.91.0000, 6815.99.2000, and 6815.99.4000. Although the HTSUS numbers are provided for convenience and customs purposes, the written product description remains dispositive. A full description of the scope of the order is contained in the memorandum from Christian Marsh, Deputy Assistant Secretary for Antidumping and Countervailing Duty Operations, to Paul Piquado, Assistant Secretary for Enforcement and Compliance, “Issues and Decision Memorandum for Certain Magnesia Carbon Bricks from the People's Republic of China: Final Results of the 2012 Administrative Review” (Issues and Decision Memorandum), which is dated concurrently with and hereby adopted by this notice. The Issues and Decision Memorandum is a public document and is on file electronically via Enforcement and Compliance's Antidumping and Countervailing Duty Centralized Electronic Service System (IA ACCESS). IA ACCESS is available to registered users at https://iaaccess.trade.gov and to all parties in the Central Records Unit, Room 7046 of the main Department of Commerce building. In addition, a complete version of the Issues and Decision Memorandum can be accessed directly on the internet at http://enforcement.trade.gov/frn/index.html. The signed Issues and Decision Memorandum and the electronic versions of the Issues and Decision Memorandum are identical in content.

Methodology

The Department conducted this review in accordance with section 751(a)(1)(A) of the Tariff Act of 1930, as amended (the Act). For a full description of the methodology underlying our conclusions, including our decision to apply facts otherwise available with an adverse inference to Fengchi and the PRC, see the Issues and Decision Memorandum.

With respect to the companies for which we initiated reviews and that did not file a no-shipments certification,⁵ consistent with the Preliminary Results, we assigned to entries made by these companies the all-others rate from the investigation.⁶

⁵ See Appendix II.

⁶ See Preliminary Results, 79 FR at 32915; see also the Issues and Decision Memorandum for a description of our methodology underlying our conclusions.

Analysis of Comments Received

All issues raised in the case brief filed are addressed in the Issues and Decision Memorandum. A list of the issues raised is attached to this notice at Appendix I.

Final Rescission, in Part, of the Administrative Review

In the Preliminary Results, we stated that a final decision regarding whether to rescind this review with respect to the RHI companies would be made in the final results of this review.⁷ We continue to find no evidence on the record indicating that the RHI companies had sales of subject merchandise to the United States during the POR. Accordingly, and pursuant to 19 CFR 351.213(d)(3), the Department is rescinding this review with respect to the RHI companies for these final results.

⁷ See Preliminary Results, 79 FR at 32915.

Final Results of Review

We determine the countervailable subsidy rates for the POR are as follows:

Company | Ad valorem net countervailable subsidy rate (percent)
Fengchi Imp. and Exp. Co., Ltd. of Haicheng City and Fengchi Refractories Co., of Haicheng City (collectively, Fengchi) | 66.27
Rate Applicable to the Remaining Companies Under Review ⁸ | 24.24

Assessment Rates

⁸ See Appendix II.

Pursuant to 19 CFR 351.212(b), the Department intends to issue appropriate instructions to U.S. Customs and Border Protection (CBP) 15 days after the publication of these final results of review in the Federal Register. The Department will instruct CBP to assess countervailing duties on POR entries in the amounts shown above.

Cash Deposit Requirements

The Department also intends to instruct CBP to collect cash deposits of estimated countervailing duties in the amounts shown above for entries of the subject merchandise entered, or withdrawn from warehouse for consumption, on or after the date of publication of these final results in the Federal Register. For all non-reviewed firms, we will instruct CBP to continue to collect cash deposits of estimated countervailing duties at the all others rate established in the investigation. Accordingly, the cash deposit rates that will be applied to companies covered by the order, but not examined in this review, are those established in the most recently completed segment of the proceeding for each company. These cash deposit rates shall apply to all non-reviewed companies until a review of a company assigned these rates is requested and completed. These cash deposit requirements, when imposed, shall remain in effect until further notice.

Administrative Protective Order

This notice serves as a reminder to parties subject to administrative protective order (APO) of their responsibility concerning the disposition of proprietary information disclosed under APO in accordance with 19 CFR 351.305(a)(3). Timely written notification of return or destruction of APO materials, or conversion to judicial protective order, is hereby requested. Failure to comply with the regulations and the terms of an APO is a sanctionable violation.

These final results are issued and published in accordance with sections 751(a)(1) and 777(i) of the Act.

Dated: October 7, 2014.
Paul Piquado,
Assistant Secretary for Enforcement and Compliance.

Appendix I

List of Issues Discussed in the Decision Memorandum

I. Summary

II. Background

III. Scope of the Order

IV. Discussion of the Methodology

V. Discussion of the Issues

Comment 1: Whether the Department Should Apply AFA to the Non-Mandatory Respondents

Comment 2: Whether the Department Also Should Apply the AFA Rate to the Non-Mandatory Respondents Because the GOC Failed to Respond in this Administrative Review

VI. Recommendation

Appendix II

List of Remaining Companies Under Review

ANH (Xinyi) Refractories Co. Ltd

Anyang Rongzhu Silicon Industry Co., Ltd

Bayuquan Refractories Co., Ltd

Beijing Tianxing Ceramic Fiber Composite Materials Corp

Changxing Magnesium Furnace Charge Co., Ltd

Changxing Wangfa Architectural & Metallurgical Materials Co., Ltd

Changzing Zhicheng Refractory Material Factory

China Metallurgical Raw Material Beijing Company

China Quantai Metallurgical (Beijing) Engineering & Science Co., Ltd

Cimm Group of China

CNBM International Corporation

Dalian Dalmond Trading Co., Ltd

Dalian F.T.Z. Huaxin International

Dalian F.T.Z. Maylong Resources Co., Ltd

Dalian Huayu Refractories International Co., Ltd

Dalian LST Metallurgy Co., Ltd

Dalian Masoo International Trading

Dalian Mayerton Refractories Ltd

Dalian Morgan Refractories Ltd

Dashiqiao Bozhong Mineral Products Co., Ltd

Dashiqiao City Guangcheng Refractory Co., Ltd

Dashiqiao Jia Sheng Mining Co., Ltd

Dashiqiao RongXing Refractory Material Co., Ltd

Dashiqiao Sanqiang Refractory Material Co., Ltd

Dashiqiao Yutong Packing Factory

Dengfeng Desheng Refractory Co., Ltd

DFL Minmet Refractories Corp

Duferco BarInvest SA Beijing Office

Duferco Ironet Shanghai Representative Office

Eastern Industries & Trading Co., Ltd

Fengchi Mining Co., Ltd of Haicheng City

Fengchi Refractories Corp

Haicheng City Qunli Mining Co., Ltd

Haicheng City Xiyang Import & Export Corporation

Haicheng Donghe Taidi Refractory Co., Ltd

Haicheng Ruitong Mining Co., Ltd

Haiyuan Talc Powder Manufacture Factory

Henan Boma Co. Ltd

Henan Kingway Chemicals Co., Ltd

Henan Tagore Refractories Co., Ltd

Henan Xinmi Changzxing Refractories, Co., Ltd

Hebei Qinghe Refractory Group Co. Ltd

Huailin Refractories (Dashiqiao) Pte. Ltd

Hualude Hardware Products Co. Ltd

Jiangsu Sujia Group New Materials Co., Ltd

Jiangsu Sujia Joint-Stock Co., Ltd

Jinan Forever Imp. & Exp. Trading Co., Ltd

Jinan Linquan Imp. & Exp. Co. Ltd

Jinan Ludong Refractory Co., Ltd

Kosmokraft Refractory Limited

Kuehne & Nagel Ltd. Dalian Branch Office

Lechang City Guangdong Province SongXin Refractories Co., Ltd

Liaoning Fucheng Refractories Group Co., Ltd

Liaoning Fucheng Special Refractory Co., Ltd

Liaoning Jiayi Metals & Minerals Ltd

Liaoning Jinding Magnesite Group

Liaoning Mayerton Refractories Co., Ltd

Liaoning Mineral & Metallurgy Group Co., Ltd

Liaoning Qunyi Group Refractories Co., Ltd

Liaoning Qunyi Trade Co., Ltd

Liaoning RHI Jinding Magnesis Co., Ltd

LiShuang Refractory Industrial Co., Ltd

Lithomelt Co., Ltd

Luheng Refractory Co., Ltd

Luoyang Refractory Group Co., Ltd

Mayerton Refractories

Minsource International Ltd

Minteq International Inc

National Minerals Co., Ltd

North Refractories Co., Ltd

Orestar Metals & Minerals Co., Ltd

Oreworld Trade (Tangshan) Co., Ltd

Puyang Refractories Co., Ltd

Qingdao Almatis Co., Ltd. (HQ)

Qingdao Almatis Co., Ltd. (Manufacturing)

Qingdao Almatis Trading Co., Ltd. (Sales Office)

Qingdao Blueshell Import & Export Corp

Qingdao Fujing Group Co., Ltd

Qingdao Huierde International Trade Co., Ltd

RHI Refractories (Dalian) Co., Ltd

RHI Refractories Liaoning Co., Ltd

RHI Trading Shanghai Branch

RHI Trading (Dalian) Co., Ltd

Rongyuan Magnesite Co., Ltd. of Dashiqiao City

Shandong Cambridge International Trade Inc

Shandong Lunai Kiln Refractories Co., Ltd

Shandong Refractories Corp

Shanxi Dajin International (Group) Co., Ltd

Shanxi Xinrong International Trade Co. Ltd

Shenyang Yi Xin Sheng Lai Refractory Materials Co., Ltd

Shinagawa Rongyuan Refractories Co., Ltd

Sinosteel Corporation

SMMC Group Co., Ltd

Tangshan Success Import & Export Trading Co., Ltd

Tianjin New Century Refractories, Ltd

Tianjin New World Import & Export Trading Co., Ltd

Tianjin Weiyuan Refractory Co., Ltd

Vesuvius Advanced Ceramics (Suzhou) Co. Ltd

Wonjin Refractories Co., Ltd

Xiyuan Xingquan Forsterite Co., Ltd

Yanshi City Guangming High-Tech Refractories Products Co., Ltd

YHS Minerals Co., Ltd

Yingkou Bayuquan Refractories Co., Ltd

Yingkou Dalmond Refractories Co., Ltd

Yingkou Guangyang Refractories Co., Ltd

Yingkou Guangyang Refractories Co., Ltd. (YGR)

Yingkou Heping Samwha Minerals Co., Ltd

Yingkou Jiahe Refractories Co., Ltd

Yingkou Jinlong Refractories Group

Yingkou Kyushu Refractories Co., Ltd

Yingkou New Century Refractories Ltd

Yingkou Qinghua Group Imp. & Exp. Co., Ltd

Yingkou Qinghua Refractories Co., Ltd

Yingkou Sanhua Refractory Materials Co., Ltd

Yingkou Tianrun Refractory Co., Ltd

Yingkou Wonjin Refractory Material Co., Ltd

Yingkou Yongji Mag Refractory, Ltd

Yixing Runlong Trade Co., Ltd

Yixing Xinwei Leeshing Refractory Materials Co., Ltd

Yixing Zhenqiu Charging Ltd

Zhejiang Changxing Guangming Special Refractory Material Foundry, Co., Ltd

Zhejiang Deqing Jinlei Refractory Co., Ltd

Zhejiang Huzhou Fuzilin Refractory Metals Group Co., Ltd

Zhengzhou Annec Industrial Co., Ltd

Zhengzhou Huachen Refractory Co., Ltd

Zhengzhou Huawei Refractories Co., Ltd

Zibo Lianzhu Refractory Materials Co., Ltd

[FR Doc. 2014-24659 Filed 10-15-14; 8:45 am]

BILLING CODE 3510-DS-P